DEPARTMENT OF DEFENSE

Department of the Air Force

Record of Decision (ROD) for Joint Use of Airfield Facilities at Kelly Air Force Base (AFB), Texas

AGENCY: Department of the Air Force, DoD.

ACTION: Notice.

SUMMARY: On December 14, 2000, the Air Force signed the ROD for Joint Use of Airfield Facilities at Kelly AFB, Texas.

The Defense Base Closure and Realignment Act requires compliance with the National Environmental Policy Act (NEPA) in implementing base closures and realignments for property disposal (10 U.S.C. 2687 note). The Air Force began a Programmatic Environmental Impact Statement (PEIS) in 1996 to fulfill the NEPA requirements. The analysis was completed in May 1997 and published as the Final Programmatic Environmental Impact Statement for the Disposal of Kelly AFB (FPEIS).

After the publication of the FPEIS the Air Force signed a ROD on July 24, 1997, indicating disposal of Kelly AFB property would be in accordance with the Greater Kelly Development Authority (GKDA) Master Plan. The disposal ROD deferred the decision regarding joint (i.e., military and civilian) use of the airfield facilities until detailed information on civil aircraft operations was available. At the time the disposal ROD was signed, the GKDA Master Plan did not include complete information fully describing the civil aircraft operations elements of the redevelopment.

The GKDA Master Plan, Appendix D published in January 1998, and further refined in October 1999, defined civil aircraft operational scenarios associated with redevelopment of Kelly AFB. A Supplemental Environmental Impact Statement (SEIS) was completed in August 2000, addressing the environmental impacts associated with the anticipated civil aircraft operations. The SEIS addressed noise, air quality, and land use impacts as well as environmental justice concerns related to the updated, projected civil aircraft operations combined with ongoing military aircraft operations. Taking into consideration the results of the SEIS, the Air Force signed a ROD on December 14, 2000 authorizing joint use of the airfield at Kelly AFB.

FOR FURTHER INFORMATION CONTACT: Jonathan D. Farthing, HQ AFCEE/ECA, 3207 North Road, Brooks Air Force Base, Texas 78235-5363, 210-536-3787 or fax to 210-536-3890.

Janet A. Long,
Air Force Federal Register Liaison Officer.

[FR Doc. 01-4566 Filed 2-23-01; 8:45 am]

BILLING CODE 5001-05-U